DEPARTMENT OF COMMERCE

National Oceanic and Atmospheric Administration

[I.D. 082704C]

Proposed Information Collection; Comment Request; U.S. Canada Albacore Treaty Reporting System

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before November 1, 2004.

ADDRESSES: Direct all written comments to Diana Hynek, Departmental Paperwork Clearance Officer, Department of Commerce, Room 6625, 14th and Constitution Avenue, NW, Washington DC 20230 (or via the Internet at dHynek@doc.gov).

FOR FURTHER INFORMATION CONTACT: Requests for additional information or copies of the information collection instrument(s) and instructions should be directed to Svein Fougner, Southwest Region, National Marine Fisheries Service, 501 West Ocean Blvd, Long Beach, CA 90802-4213 (phone 562-980-4040).

SUPPLEMENTARY INFORMATION:

I. Abstract

The 1981 Treaty Between the Government of the United States and the Government of Canada on Pacific Coast Albacore Tuna Vessels and Port Privileges (Treaty) provides for reciprocal privileges for vessels of one country to fish in waters under the fisheries jurisdiction of the other country and to use certain ports. H.R. 2584 was enacted in 2004 and amended the Magnuson-Stevens Fishery Conservation and Management Act (Magnuson-Stevens Act) to authorize the Secretary of Commerce, with the concurrence of the Secretary of State, to issue regulations needed to carry out U.S. obligations under the Treaty. On June 1, 2004, the National Marine Fisheries Service (NMFS) implemented such regulations. The regulations require U.S. vessel operators to report their desire to be on the list of vessels provided to Canada each year indicating vessels that are eligible to fish for albacore in waters under the fisheries jurisdiction of Canada; to report in advance their intention to fish or transit before crossing the border between the U.S. and Canada, or vice versa; to maintain and submit to NMFS logbooks of catch and effort covering fishing in Canadian waters; and to mark their fishing vessels to facilitate effective enforcement. The information collection was authorized by emergency approval from the Office of Management and Budget. This collection is intended to be processed through normal procedures including full public review.

II. Method of Collection

Fishing vessel operators and owners are responsible for providing to NMFS, by phone or in written form (fax, letter or email), information about their vessels and fishing intentions to establish eligibility for fishing in Canada's waters. Vessel operators must complete and submit paper logbooks to NMFS recording catch (by species), disposition of catch, and fishing effort (hours trolled and lines used) during their fishing in Canadian waters under the Treaty. Vessel operators must make reports to an NMFS-designated contractor at least 24 hours prior to entry to Canadian waters to fish under the Treaty and prior to returning to U.S. waters. Reports can be made by sideband radio, phone, fax, or email at any time of the day. Finally, vessel operators must mark their vessels with painted numbers and letters on the hull when fishing in Canadian waters under the Treaty.

III. Data

OMB Number: 0648-0492.

Form Number: None.

Type of Review: Regular Submission.

Affected Public: Business or other for-profit organizations.

Estimated Number of Respondents: 700.

Estimated Time Per Response: 8 minutes.

Estimated Total Annual Burden Hours: 348.

Estimated Total Annual Cost to Public: $1,900.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 27, 2004.
Gwellnar Banks,
Management Analyst, Office of the Chief Information Officer.

[FR Doc. 04-19972 Filed 8-31-04; 8:45 am]

BILLING CODE 3510-22-S